DEPARTMENT OF COMMERCE

National Oceanic and Atmospheric Administration

50 CFR Part 622

[Docket No. 141104927-4927-01]

RIN 0648-BE61

Fisheries of the Caribbean, Gulf of Mexico, and South Atlantic; Reef Fish Resources of the Gulf of Mexico; Commercial Reef Fish Fishery of the Gulf of Mexico; Control Date

AGENCY: National Marine Fisheries Service (NMFS), National Oceanic and Atmospheric Administration (NOAA), Commerce.

ACTION: Advanced notice of proposed rulemaking; request for comments.

SUMMARY: This document announces the establishment of a control date of January 1, 2015, that the Gulf of Mexico Fishery Management Council (Council) may use if it decides to create additional restrictions limiting participation in the individual fishing quota (IFQ) program for the grouper and tilefish component of the commercial sector of the reef fish fishery in the Gulf of Mexico (Gulf) exclusive economic zone. Anyone entering the program after the control date will not be assured of future access should a management regime that limits participation in the program be prepared and implemented. NMFS invites comments on the establishment of this control date.

DATES: Written comments must be received on or before January 7, 2015.

ADDRESSES: You may submit comments on the proposed rule identified by “NOAA-NMFS-2014-0140” by any of the following methods:

• Electronic Submission: Submit all electronic public comments via the Federal e-Rulemaking Portal. Go to www.regulations.gov/#!docketDetail;D=NOAA-NMFS-2014-0140, click the “Comment Now!” icon, complete the required fields, and enter or attach your comments.

• Mail: Submit written comments to Susan Gerhart, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Susan Gerhart, telephone: 727-824-5305, or email: Susan.Gerhart@noaa.gov.

SUPPLEMENTARY INFORMATION: The IFQ program for Gulf grouper and tilefish species (Gulf Grouper and Tilefish IFQ Program) was implemented on January 1, 2010 (74 FR 44732, August 31, 2009). The species included in the IFQ program are deep-water groupers (yellowedge grouper, misty grouper, warsaw grouper, snowy grouper, speckled hind, plus scamp under certain circumstances); red grouper, gag, and other shallow-water groupers (black grouper, scamp, yellowfin grouper, rock hind, red hind, yellowmouth grouper, plus warsaw grouper and speckled hind under certain circumstances); and tilefishes (goldface tilefish, blackline tilefish, anchor tilefish, blueline tilefish, and tilefish). The program includes a provision that, beginning January 1, 2015, all U.S. citizens or permanent resident aliens are eligible to receive transfers of grouper and tilefish IFQ shares or allocation. A Gulf commercial reef fish permit will still be required to harvest, land, and sell grouper and tilefish. This document is to inform current and potential participants of the Gulf Grouper and Tilefish IFQ program that possession of IFQ shares or allocation after this date may not ensure participation under future management of the program. The Council could consider options that include re-establishing a requirement to possess a Gulf commercial reef fish permit to receive shares or allocation under the program. If the Council prepares an amendment to the Fishery Management Plan (FMP) for Reef Fish Resources in the Gulf to restrict participation in the Gulf Grouper and Tilefish IFQ Program in relation to this control date, an analysis of the specific biological, economic, and social effects of the action will be prepared at that time.

Publication of the control date in the Federal Register informs participants of the Council's considerations, and gives notice to anyone entering the fishery after the control date that they would not be assured of future access to the Gulf Grouper and Tilefish IFQ Program should management changes be implemented that would restrict participation. Implementation of any such changes would require preparation of an amendment to the FMP and publication of a notice of availability and proposed rule in the Federal Register with pertinent public comment periods.

Since the first control date document of November 1, 1989, 54 FR 46755 (November 7, 1989), the Council has established a total of six control dates for various aspects of the reef fish fishery. As stated in the documents, they were intended to provide additional notice to the public that the Council was considering certain future management actions potentially restricting public access to fishery resources. The most recent control date was a similar control date for the Gulf Red Snapper IFQ program, which published on November 30, 2011 (76 FR 74038). This document considered a control date of January 1, 2012, and stated that anyone entering the program after the control date will not be assured future access should a management regime that limits participation in the program be prepared and implemented. To date, the Council and NMFS have not implemented any management changes to the Gulf Red Snapper IFQ Program that utilize this control date. The current document does not supersede any of the prior documents, and is intended only to provide additional public notice of potential future action being considered relative to the Gulf Grouper and Tilefish IFQ program.

The establishment of a control date does not commit the Council or NMFS to any particular management regime. The Council may or may not make use of this control date as part of the requirements for participation in the Gulf Grouper and Tilefish IFQ Program. Fishermen are not guaranteed future participation in the program, regardless of their entry date. The Council may take action that would affect participants who were in the program prior to the control date or the Council may choose to take no further action to control entry or access to the Gulf Grouper and Tilefish IFQ program.

This notification also gives the public notice that interested participants should locate and preserve records that substantiate and verify their participation in the Gulf reef fish fishery.

Authority: 16 U.S.C. 1801 et seq.

Dated: November 25, 2014.
Samuel D. Rauch III,
Deputy Assistant Administrator for Regulatory Programs, National Marine Fisheries Service.

[FR Doc. 2014-28625 Filed 12-5-14; 8:45 am]

BILLING CODE 3510-22-P